DEPARTMENT OF STATE

[Public Notice: 11754]

Notice of the Program for the Study of Eastern Europe and Eurasia (Title VIII) Advisory Committee Open Virtual Meeting

ACTION: Notice of an advisory committee open meeting.

SUMMARY: Pursuant to section 10 of the Federal Advisory Committee Act (FACA), notice is hereby given to announce a public virtual meeting of the Title VIII Advisory Committee on Thursday, June 30, 2022.

DATES: The meeting will begin at approximately 1:30 p.m. Eastern Daylight Time (EDT) on Thursday, June 30, 2022, via Google Meets and adjourn at approximately 4:00 p.m. EDT.

FOR FURTHER INFORMATION CONTACT: Designated Federal Officer, Ms. Sidni Dechaine, Title VIII Program Officer, Department of State, Bureau of Intelligence and Research, TitleVIII@state.gov.

SUPPLEMENTARY INFORMATION: All meeting participants are being asked to RSVP by Tuesday, June 28, 2022 via email to TitleVIII@state.gov, subject line “Title VIII Advisory Committee Public Meeting 2022.” Members of the public requesting reasonable accommodation should make such requests when they register. Upon receipt of the RSVP, attendees will be registered, and will receive the meeting number and password. Members of the public who will participate are encouraged to dial into the meeting 10 minutes prior to the start of the meeting.

Purpose of Meeting and Topics To Be Discussed: The Advisory Committee will announce its recommendations for grant recipients for the 2022 funding opportunity for the Program for the Study of Eastern Europe and the Independent States of the Former Soviet Union, in accordance with the Research and Training for Eastern Europe and the Independent States of the Former Soviet Union Act of 1983, Public Law 98-164, as amended. The agenda will include opening statements by the Committee chair and Committee members. The Committee will provide an overview and discussion of eligible grant proposals submitted from U.S organizations with an interest and expertise in conducting research and foreign language training concerning the countries and languages of Eastern Europe and the Independent States of the Former Soviet Union, based on the guidelines set forth in the March 25, 2022 request for proposals published on Grants.gov and SAMS Domestic (mygrants.service-now.com). Following Committee deliberation, interested members of the public may make oral statements concerning the Title VIII program. This meeting will be open to the public; however, attendees must register in advance.

Sidni J. Dechaine,
Designated Federal Officer, Advisory Committee for the Program for the Study of Eastern Europe and the Independent States of the Former Soviet Union, Department of State.

[FR Doc. 2022-11947 Filed 6-2-22; 8:45 am]

BILLING CODE 4710-32-P